ENVIRONMENTAL PROTECTION AGENCY

40 CFR Part 52

[EPA-R10-OAR-2015-0322; FRL-9931-13-Region 10] Approval and Promulgation of State Implementation Plans: Oregon: Grants Pass Carbon Monoxide Limited Maintenance Plan

AGENCY: Environmental Protection Agency (EPA).

ACTION: Direct final rule.

SUMMARY: The Environmental Protection Agency (EPA) is taking direct final action to approve a carbon monoxide Limited Maintenance Plan (LMP) for Grants Pass, submitted by the State of Oregon on April 22, 2015 as a revision to its State Implementation Plan (SIP). In accordance with the requirements of the Clean Air Act (CAA), the EPA is approving this SIP revision because it demonstrates that Grants Pass will continue to meet the carbon monoxide National Ambient Air Quality Standards (NAAQS) for a second 10-year period beyond re-designation, through 2025.

DATES: This rule is effective on September 28, 2015, without further notice, unless the EPA receives adverse comment by August 27, 2015. If the EPA receives adverse comment, we will publish a timely withdrawal in the Federal Register informing the public that the rule will not take effect.

ADDRESSES: Submit your comments, identified by Docket ID No. EPA-R10-OAR-2015-0322, by any of the following methods:

• Federal eRulemaking Portal http://www.regulations.gov: Follow the on-line instructions for submitting comments.

• Email: R10-Public_Comments@epa.gov.

• Mail: Lucy Edmondson, EPA Region 10, Office of Air, Waste and Toxics, AWT-150, 1200 Sixth Avenue, Suite 900, Seattle, WA 98101.

• Hand Delivery/Courier: EPA Region 10, 1200 Sixth Avenue, Suite 900, Seattle, WA 98101. Attention: Lucy Edmondson, Office of Air, Waste and Toxics, AWT-150. Such deliveries are only accepted during normal hours of operation, and special arrangements should be made for deliveries of boxed information.

Instructions: Direct your comments to Docket ID No. EPA-R10-OAR-2015-0322. Once submitted, comments cannot be edited or withdrawn. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, is not placed on the Internet and will be publicly available only in hard copy. Publicly available docket materials are available either electronically in http://www.regulations.gov or in hard copy during normal business hours at the Office of Air, Waste and Toxics, EPA Region 10, 1200 Sixth Avenue, Seattle, WA 98101.

FOR FURTHER INFORMATION CONTACT: Lucy Edmondson at (360) 753-9082, edmondson.lucy@epa.gov, or the above EPA, Region 10 address.

SUPPLEMENTARY INFORMATION: Throughout this document wherever “we”, “us” or “our” is used, it is intended to refer to the EPA. Information is organized as follows:

Table of Contents

I. This Action

II. Background

III. Public and Stakeholder Involvement in Rulemaking Process

IV. Evaluation of Oregon's Submittal

V. Transportation and General Conformity

VI. Final Action

VII. Oregon Notice Provision

VIII. Statutory and Executive Order Reviews

I. This Action

The EPA is taking direct final action to approve the carbon monoxide (CO) LMP for Grants Pass, Oregon. The Oregon Department of Environmental Quality (ODEQ) submitted this plan as a SIP revision, on April 22, 2015. This CO LMP is designed to keep Grants Pass in attainment with the CO standard for a second 10-year period beyond re-designation, through 2025.

II. Background

Under Section 107(d)(1)(c) of the CAA, each CO area designated nonattainment prior to enactment of the 1990 Amendments, such as Grants Pass, was designated nonattainment by operation of law upon enactment of the 1990 Amendments. Under section 186(a) of the CAA, each CO area designated nonattainment under section 107(d) was also classified by operation of law as either “moderate” or “serious” depending on the severity of the area's air quality problem. CO areas with design values between 9.1 and 16.4 parts per million (ppm), such as Grants Pass, were classified as moderate. These nonattainment designations and classifications were codified in 40 CFR part 81. (56 FR 56694) (November 6, 1991).

In August 2000, the EPA approved the first maintenance plan designed to maintain compliance with the CO standard in Grants Pass, OR through the year 2015 (see 65 FR 52932, August 31, 2000). While the central business district represented the maintenance area, the EPA considered the Urban Growth Boundary (UGB) to be a more representative area of influence for carbon monoxide emissions, and the 1993 emission inventory was prepared for the UGB. In addition to approving ODEQ's maintenance plan for the area, the EPA also approved ODEQ's request to redesignate the Grants Pass area to attainment of the CO standard (see 65 FR 52932, August 31, 2000). On November 5, 1999, Oregon submitted a complete rule renumbering and relabeling package to EPA for approval in the SIP. On January 22, 2003, EPA approved the recodified version of Oregon's rules to remove and replace the outdated numbering system (68 FR 2891).

Per CAA section 175A(b), Oregon's current SIP submittal provides a second 10-year CO maintenance plan for Grants Pass that will apply until 2025, and fulfill the final planning requirements under the CAA. In addition, the plan is consistent with the elements of a LMP as outlined in an EPA October 6, 1995 memorandum from Joseph Paisie, the Group Leader of the Integrated Policy and Strategies Group, titled, “Limited Maintenance Plan Option for Nonclassifiable CO Nonattainment Areas” (LMP Option). To qualify for the LMP Option, the CO design value for an area, based on the eight consecutive quarters (two years of data) used to demonstrate attainment, must be at or below 7.65 ppm (85 percent of the CO NAAQS). In addition, the control measures from the first CO maintenance plan must remain in place and unchanged. The primary control measure has been the emission standards for new motor vehicles under the Federal Motor Vehicle Control Program. Other control measures have been the New Source Review Program and several residential woodsmoke emission reduction efforts. The EPA has determined that the LMP Option for CO is also available to all states as part of the CAA 175A(b) update to the maintenance plans, regardless of the original nonattainment classification, or lack thereof. Thus, the EPA finds that Grants Pass qualifies for the LMP.

III. Public and Stakeholder Involvement in Rulemaking Process

Section 110(a)(2) of the CAA requires that each SIP revision offer a reasonable opportunity for notice and public hearing. This must occur prior to the revision being submitted by the State to the EPA. The State provided notice and an opportunity for public comment from December 16, 2014 until January 26, 2015, with no comments received. ODEQ also held a public hearing on January 22, 2015 in Grants Pass. This SIP revision was submitted by the Governor's designee and was received by the EPA on April 22, 2015. The EPA has evaluated ODEQ's submittal and determined that the State met the requirements for reasonable notice and public hearing under section 110(a)(2) of the CAA.

IV. Evaluation of Oregon's Submittal

The EPA has reviewed Oregon's SIP submittal for Grants Pass. The following is a summary of the requirements for a LMP and the EPA's evaluation of how each requirement has been met by the SIP submittal.

A. Base Year Emissions Inventory

The maintenance plan must contain an attainment year emissions inventory to identify a level of CO emissions in the area that is sufficient to attain the CO NAAQS. The April 22, 2015 SIP submittal contains a summary of the CO emissions inventory for Grants Pass for the base year 2005. This summary is based on the Grants Pass Inventory Preparation and Quality Assurance Plan for the Grants Pass Urban Growth Boundary Limited Carbon Monoxide Maintenance Plan, adopted March 2014.

Historically, exceedances of the CO standard in Grants Pass have occurred during the winter months, when cooler temperatures contribute to incomplete combustion, and when CO emissions are trapped near the ground by atmospheric inversions. The UGB was used for the initial 1993 emissions inventory, since it was more representative of the area of influence for carbon monoxide emissions, and used again for the 2005 emission inventory in this LMP. Sources of carbon monoxide in Grants Pass include industry, motor vehicles, non-road mobile sources, (e.g., construction equipment, recreational vehicles, lawn and garden equipment, and area sources (e.g., outdoor burning, woodstoves, fireplaces, and wildfires). The CO season is defined as three consecutive months—December 1 through the end of February. As such, season day emissions in addition to annual emissions are included in the inventory. The unit of measure for annual emissions is in tons per year (tpy), while the unit of measure for season day emissions is in pounds per day (lb/day). In addition, the county-wide emissions inventory data is spatially allocated to the Grants Pass UGB, and to buffers around the UGB, depending on emissions category.

Because violations of the CO NAAQS are most likely to occur on winter weekdays, the inventory prepared is for a “typical winter day”. The table below shows the estimated tons of CO emitted per winter day by source category for the 2005 base year.

2005 Emissions Inventory, Main Source Category Subtotals
Main source category | CO emissions pounds per winter day
Stationary Point Sources | 1,202
Onroad Mobile Sources | 58,120
Non-road Mobile Sources | 6,289
Stationary Area Sources | 22,244
Total | 87,855

B. Demonstration of Maintenance

The CO NAAQS is attained when the annual second highest 8-hour average CO concentration for an area does not exceed a concentration of 9.0 ppm. The last monitored violation of the CO NAAQS in Grants Pass occurred in 1990, and CO levels have been steadily in decline.

For areas using the LMP Option, the maintenance plan demonstration requirement is considered to be satisfied when the second highest 8-hour CO concentration is at or below 7.65 ppm (85 percent of the CO NAAQS) for 8 consecutive quarters. The current 8-hour CO Design Value for Grants Pass is 4.0 ppm based on the two most recent years of data (2004-2005), which is significantly below the LMP Option requirement of 7.65 ppm. Therefore, the State has demonstrated that Grants Pass qualifies for the LMP Option.

With the LMP Option, there is no requirement to project emissions of air quality over the upcoming maintenance period. The EPA believes that if the area begins the maintenance period at, or below, 85 percent of the level of the CO 8-hour NAAQS, the applicability of prevention of significant deterioration requirements, the control measures already in the SIP, and Federal control measures already in place will provide adequate assurance of maintenance over the 10-year maintenance period.

C. Monitoring Network and Verification of Continued Attainment

Monitored CO levels in the Grants Pass UGB steadily declined since monitoring began in the area in 1980. CO levels have declined significantly across the nation through motor vehicle emissions controls and fleet turnover to newer, cleaner vehicle models. As CO levels dropped and stayed low, Oregon requested to remove the Grants Pass CO monitor in 2006, and the EPA approved the request on October 19, 2006. ODEQ now uses an alternate method of verifying continued attainment with the CO standard.

ODEQ calculates CO emissions every three years as part of the Statewide Emissions Inventory and submits the data to the EPA for inclusion in the National Emissions Inventory (NEI). ODEQ commits to review the NEI estimates to identify any increases over the 2005 emission levels and source categories, and report on them in the annual network plan for the applicable year. Since on-road motor vehicles are the predominant source of carbon monoxide in Grants Pass (about 70%), this source category will be the primary focus of this review. ODEQ will annually calculate CO emissions and evaluate any increase in CO emissions to confirm it is not due to a change in emission calculation methodology, an exceptional event, or other factor not representative of an actual emissions increase. Recognizing there could be a minor, insignificant emissions increase, for the purposes of triggering the Contingency Plan described below, an increase of five percent in either the total annual or season day emissions, or in the on-road mobile source category, represents a “significant” emission increase.

D. Contingency Plan

Section 175A(d) of the CAA requires that a maintenance plan include contingency provisions necessary to ensure prompt correction of any violations of the standard that may occur. In its April 22, 2015 submittal, the State of Oregon included the following contingency measures for this LMP:

1. If ODEQ's three-year periodic review of CO emissions shows a significant increase in emissions, as described in Section 8 of this plan, ODEQ will then reestablish ambient CO monitoring in Grants Pass.

2. If the highest measured 8-hour CO concentration in a given year in Grants Pass exceeds the LMP eligibility level of 7.65 ppm (85 percent of the 8-hr standard), ODEQ will evaluate the cause of the CO increase. Within six months of the validated 7.65 ppm CO concentration, ODEQ will determine a schedule of selected strategies to either prevent or correct any violation of the 8-hour CO standard. The contingency strategies that will be considered include, but are not limited to:

• Improvements to parking and traffic circulation

• Aggressive signal retiming program

• Funding for transit

• Implementation of bicycle and pedestrian networks.

ODEQ (and the advisory group if needed) may also conduct further evaluation, to determine if other strategies are necessary.

3. If a violation of the CO standard occurs, in addition to step two above, ODEQ will replace the Best Available Control Technology (BACT) requirement for new and modified stationary sources with the Lowest Achievable Emission Rate (LAER) technology, and reinstate the requirement to offset any new CO emissions. Additional CO emission reduction measures will be considered, as needed.

V. Transportation and General Conformity

Federal transportation conformity rules (40 CFR parts 51 and 93) and general conformity rules (58 FR 63214, November 30, 1993) continue to apply under a LMP. However, as noted in the LMP Option memo, these requirements are greatly simplified. An area under a LMP can demonstrate conformity without submitting an emissions budget, and as a result, emissions do not need to be capped nor a regional emissions analysis (including modeling) conducted. Grants Pass is currently meeting the requirements of 40 CFR parts 51 and 93.

In the June 24, 2015 adequacy finding for the Grants Pass CO LMP, the EPA determined that Grants Pass has met the criteria to be exempt from regional emissions analysis for CO. However, other transportation conformity requirements such as consultation, transportation control measures, and project level conformity requirements would continue to apply to the area. With approval of the LMP, the area continues to be exempt from performing a regional emissions analysis, but must meet project-level conformity analyses as well as the transportation conformity criteria mentioned above.

VI. Final Action

In accordance with the requirements of the CAA, the EPA is approving the CO LMP for Grants Pass, Oregon submitted by the State of Oregon on April 22, 2015 as a revision to the Oregon SIP. The State has adequately demonstrated that Grants Pass will maintain the CO NAAQS and meet the requirements of a LMP through the second 10-year maintenance period through 2025.

The EPA is publishing this action without prior proposal because the EPA views this as a noncontroversial amendment and anticipates no adverse comments. However, in the proposed rules section of this Federal Register publication, the EPA is publishing a separate document that will serve as the proposal to approve the SIP revision should adverse comments be filed. This rule will be effective September 28, 2015 without further notice unless the EPA receives adverse comments by August 27, 2015. If the EPA receives such comments, then the EPA will publish a timely withdrawal of the direct final rule informing the public that the rule will not take effect. All public comments received will then be addressed in a subsequent final rule based on the proposed rule. The EPA will not institute a second comment period on this rule. Any parties interested in commenting on this rule should do so at this time. If no such comments are received, the public is advised that this rule will be effective on September 28, 2015 and no further action will be taken on the proposed rule.

VII. Oregon Notice Provision

Oregon Revised Statute 468.126, prohibits ODEQ from imposing a penalty for violation of an air, water or solid waste permit, unless the source has been provided five days advanced written notice of the violation, and has not come into compliance or submitted a compliance schedule within that five-day period. By its terms, the statute does not apply to Oregon's Title V program or to any program if application of the notice provision would disqualify the program from Federal delegation. Oregon has previously confirmed that, because application of the notice provision would preclude EPA approval of the Oregon SIP, no advance notice is required for violation of SIP requirements.

VIII. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 28, 2015. Filing a petition for reconsideration by the Administrator of this final rule does not affect the finality of this action for the purposes of judicial review, nor does it extend the time within which a petition for judicial review may be filed, and shall not postpone the effectiveness of such rule or action. Parties with objections to this direct final rule are encouraged to file a comment in response to the parallel notice of proposed rulemaking for this action published in the proposed rules section of the Federal Register, rather than file an immediate petition for judicial review of this direct final rule, so that the EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Reporting and recordkeeping requirements.

Dated: July 8, 2015.
Dennis J. McLerran,
Regional Administrator, Region 10.

40 CFR part 52 is amended as follows:

PART 52—APPROVAL AND PROMULGATION OF IMPLEMENTATION PLANS

1. The authority citation for Part 52 continues to read as follows:

Authority: 42 U.S.C. 7401 et seq.

Subpart MM—Oregon

2. Section 52.1970, paragraph (e), the table entitled “State of Oregon Air Quality Control Program” is amended by adding an entry after the existing entries under “Section 4” to read as follows:

§ 52.1970 Identification of plan.

* * * * *

(e) * * *

State of Oregon Air Quality Control Program
SIP citation | Title/subject | State effective date | EPA approval date | Explanation
* * * * * * *
Section 4
* * * * * * *
| Grants Pass Second 10-Year Carbon Monoxide Limited Maintenance Plan | 4/16/2015 | 7/28/2015, [Insert Federal Register citation] |
* * * * * * *

* * * * *

[FR Doc. 2015-18220 Filed 7-27-15; 8:45 am]

BILLING CODE P